DEPARTMENT OF COMMERCE

National Oceanic and Atmospheric Administration

50 CFR Part 648

[Docket No., I.D. 050906B]

Magnuson-Stevens Fishery Conservation and Management Act Provisions; Fisheries of the Northeastern United States; Northeast (NE) Multispecies Fishery; Allocation of Trips to Closed Area (CA) II Yellowtail Flounder Special Access Program (SAP)

AGENCY: National Marine Fisheries Service (NMFS), National Oceanic and Atmospheric Administration (NOAA), Commerce.

ACTION: Temporary rule; notification of maximum number of trips.

SUMMARY: NMFS announces that the Administrator, Northeast Region, NMFS (Regional Administrator) is allocating, using the formula implemented by Framework Adjustment (FW) 40B, zero trips into the CA II Yellowtail Flounder SAP for the 2006 NE multispecies fishing year (FY). The intent of this action is to provide a sustainable fishery throughout FY 2006.

DATES: Effective July 1, 2006, through April 30, 2007.

FOR FURTHER INFORMATION CONTACT: Moira Kelly, Fishery Management Specialist, phone: (978) 281-9218, fax: (978) 281-9135, e-mail: moira.kelly@noaa.gov.

SUPPLEMENTARY INFORMATION: FW 40B, developed by the New England Fishery Management Council (Council) and approved and implemented on June 1, 2005, requires the Regional Administrator to allocate, prior to June 1 of each year, the total number of trips into the CA II Yellowtail Flounder SAP based on the Georges Bank (GB) yellowtail flounder total allowable catch (TAC), as established through the U.S./Canada Resource Sharing Understanding, and the amount of GB yellowtail flounder caught outside of the SAP. FW 40B established the following formula for determining the appropriate number of trips for this SAP on a yearly basis to help achieve optimum yield (OY) of GB yellowtail flounder: Number of trips = (GB yellowtail flounder TAC - 1,946 mt)/4.54 mt. Note that 4.54 mt is equivalent to 10,000 lb (4,536 kg). This formula assumes that, similar to the calculation that was done for FY 2005, 94 percent of the GB yellowtail flounder TAC (i.e., 1,946 mt) will be caught outside of the CA II Yellowtail Flounder SAP. The formula results in an allocation of only 27 trips for FY 2006. However, if it is determined that the catch available for the SAP (i.e., GB yellowtail flounder TAC - GB yellowtail flounder caught outside SAP) is not sufficient to support 150 trips with a 15,000-lb (6,804-kg) trip limit, or that at least 1,020 mt are available for the SAP, the Regional Administrator may choose to not allocate any trips to the SAP. However, the FY 2006 GB yellowtail flounder TAC (2,070 mt) less the amount of GB yellowtail that will be caught outside of the SAP is only 124 mt. It would not be feasible or equitable to allocate and monitor such a low number of trips across the fleet. Allocating such a low number of trips fleet-wide would likely cause a derby fishery which would be impossible to monitor and control in such a way to ensure that the low available catch is not exceeded. Therefore, based on the final rule implementing the 2006 U.S./Canada GB yellowtail flounder TAC (71 FR 25095; April 28, 2006), which was recommended by the Transboundary Management Guidance Committee and the Council for FY 2006, and using the criteria specified under § 648.85(b)(3)(vii) to determine the appropriate number of trips for FY 2006, the Regional Administrator has determined that there will be insufficient GB yellowtail flounder TAC to support the CA II Yellowtail Flounder SAP for FY 2006. As such, zero trips will be available for FY 2006.

Classification

This action is required by § 648.85(b)(3)(vii) and is exempt from review under Executive Order 12866.

Pursuant to 5 U.S.C. 553(b)(B), the Assistant Administrator finds good cause to waive prior notice and opportunity for public comment for this action because any delay of this action would be impracticable and contrary to the public interest. Additional prior notice and opportunity for public comment would delay the implementation of the action which could potentially lead to the opening of this SAP during FY 2006. Opening of this SAP during FY 2006 could prematurely close the Eastern U.S./Canada Area, as increased catches of GB yellowtail flounder from this SAP would likely result in the early attainment of the U.S./Canada Management Area TAC for GB yellowtail flounder. Such a closure would reduce sources of potential revenue, decreased economic returns, and lead to further adverse economic impacts to the fishing industry, not only from GB yellowtail flounder, but from GB cod and GB haddock as well. In addition, the potential for an unexpected opening and rapid closure of this SAP following the consideration of additional public comment could create confusion in the fishing industry. Therefore, given the potential negative impacts resulting from delayed implementation of this action, as described above, it would be impracticable and contrary to the public interest to provide further notice and opportunity for public comment. Any detrimental effect of foregoing prior notice and comment for this action is mitigated because the possibility of this closure was contemplated during the development of FW 40B and commented on by the public. In addition, the Council and public were consulted about this action during the April 4, 2006, Council meeting, at which time there was opportunity for additional public comment.

Authority: 16 U.S.C. 1801 et seq.

Dated: May 16, 2006.
Alan D. Risenhoover,
Acting Director, Office of Sustainable Fisheries, National Marine Fisheries Service.

[FR Doc. 06-4740 Filed 5-19-06; 8:45 am]

BILLING CODE 3510-22-S